DEPARTMENT OF TRANSPORTATION

Pipeline and Hazardous Materials Safety Administration Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 20, 2007.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permit is published in accordance with Part 107 of the Federal hazardous materials transportation law (49 U.S.C. 5117(b); 49 CFR 1.53(b)).

Issued in Washington, DC, on July 11, 2007.
Delmer Billings,
Director, Special Permits & Approvals Programs, Office of Hazardous Materials, Special Permits & Approvals.

New Special Permits
Application No. | Docket No. | Applicant | Regulation(s) affected | Nature of special permits thereof
14527-N |  | FedEx Express, Memphis, TN | 49 CFR 175.33 | To authorize the air transportation of certain hazardous materials without identifying the packaging type on the Notification to Pilot in Command. (modes 4, 5)
14528-N |  | Halpern Import Company, Inc., Atlanta, GA | 49 CFR 173.304; 173.306 |
14532-N |  | Degussa Corporation, Parsippany, NJ | 49 CFR 173.31(d)(1)(vi); 172.302(c) | To authorize the transportation in commerce of certain Division 5.1 hazardous materials in tank cars that have not had their rupture disk removed for inspection. (mode 2)
14534-N |  | American Airlines, Inc., Tulsa, OK | 49 CFR 73.302a(a)(2) | To authorize the transportation in commerce of DOT Specification 3HT cylinders beyond the 24 year service life provided they pass the applicable retest requirements every two years. (modes 1, 2, 3, 4, 5)
14535-N |  | Environmental Packaging Technologies, Houston, TX | 49 CFR 172.102(c) special provision IB2 and IB3 | To authorize the transportation in commerce of certain hazardous materials with a vapor pressure of 150 kPa at 55 °C in intermediate bulk containers. (mode 1)
14542-N |  | The University of Texas at Austin, Austin, TX | 49 CFR 173.420 | To authorize the one-way transportation in commerce of approximately 1 pound of natural uranium hexafluoride in a DOT Specification 4B240ET cylinder by motor vehicle. (mode 1)

[FR Doc. 07-3542 Filed 7-19-07; 8:45 am]

BILLING CODE 4909-60-M